DEPARTMENT OF ENERGY

Western Area Power Administration

Agency Information Collection Extension

AGENCY: Western Area Power Administration, Department of Energy (DOE).

ACTION: Notice and request for comments.

SUMMARY: The Western Area Power Administration (WAPA), an element of the Department of Energy (DOE), pursuant to the Paperwork Reduction Act of 1995, intends to extend for three years without change, an information collection request with the Office of Management and Budget (OMB). The current OMB control number 1910-5136 for WAPA's Applicant Profile Data (APD) form expires September 30, 2017. WAPA intends to extend the APD form under the OMB control number to September 30, 2020. WAPA is seeking comments on this proposed information collection extension.

DATES: Comments regarding this proposed information collection must be received on or before the end of the comment period that closes on July 17, 2017. WAPA must receive comments by the end of the comment period to ensure consideration.

ADDRESSES: Written comments may be sent to Mr. Brent Osiek, Vice President of Power Marketing, Western Area Power Administration, 150 East Social Hall Avenue, Suite 300, Salt Lake City, UT 84111, or by email to osiek@wapa.gov. Please refer to “Paperwork Reduction Act Information Collection” as the subject of your comments.

FOR FURTHER INFORMATION CONTACT: Please contact Mr. Brent Osiek, Vice President of Power Marketing, Western Area Power Administration, 150 East Social Hall Avenue, Suite 300, Salt Lake City, UT 84111, telephone (801) 524-5495, or email osiek@wapa.gov. The APD form is available on WAPA's Web page at www.wapa.gov/PowerMarketing/Pages/applicant-profile-data.aspx.

SUPPLEMENTARY INFORMATION: This information collection request relates to: (1) OMB No. 1910-5136; (2) Information Collection Request Title: Western Area Power Administration Applicant Profile Data; (3) Type of Review: Renewal; (4) Purpose: The proposed collection of information is necessary for the proper performance of WAPA's power marketing functions. WAPA markets a limited amount of Federal hydropower. WAPA has discretion to determine who will receive an allocation of Federal hydropower. Due to the limited quantity and high demand for WAPA's hydropower available under established marketing plans, WAPA may need to be able to collect information using the APD to evaluate the entities that apply to receive allocations of Federal hydropower; (5) Annual Estimated Number of Respondents: 33.3; (6) Annual Estimated Number of Total Responses: 33.3; (7) Annual Estimated Number of Burden Hours: 266.7; and (8) Annual Estimated Reporting and Recordkeeping Cost Burden: $34,063.44.

I. Statutory Authority

Reclamation Laws are a series of laws arising from the Desert Land Act of 1877 and include, but are not limited to, the Desert Land Act of 1877, Reclamation Act of 1902, Reclamation Project Act of 1939, and the Acts authorizing each individual project such as the Central Valley Project Authorizing Act of 1937.¹ The Reclamation Act of 1902 established the Federal reclamation program.² The basic principle of the Reclamation Act of 1902 was that the United States, through the Secretary of the Interior, would build and operate irrigation works from the proceeds of public land sales in the sixteen arid Western states (a seventeenth was later added). The Reclamation Project Act of 1939 expanded the purposes of the reclamation program and specified certain terms for contracts that the Secretary of the Interior enters into to furnish water and power.³ Congress enacted the Reclamation Laws for purposes that include enhancing navigation, protection from floods, reclaiming the arid lands in the Western United States, and for fish and wildlife.⁴ Congress intended the production of power would be a supplemental feature of the multi-purpose water projects authorized under the Reclamation Laws.⁵ No contract entered into by the United States for power may, in the judgment of the Secretary, impair the efficiency of the project for irrigation purposes.⁶ Section 5 of the Flood Control Act of 1944 is read in pari materia with Reclamation Laws with respect to the WAPA.⁷ In 1977, the Department of Energy Organization Act transferred the power marketing functions of the Department of the Interior to the Secretary of Energy, acting by and through a separate Administrator for WAPA.⁸ Pursuant to this authority, WAPA markets Federal hydropower. As part of WAPA's marketing authority, WAPA needs to obtain information from interested entities who desire an allocation of Federal power using the APD form. The Paperwork Reduction Act of 1995 requires WAPA to obtain a clearance from OMB before collecting this information through the APD form.⁹

¹ See, Ch. 107, 19 stat. 377 (1877), Ch. 1093, 32 Stat. 388 (1902), Ch. 418, 53 Stat. 1187 (1939), Ch. 832, 50 Stat. 844, 850 (1937), all as amended and supplemented.

² See, Ch. 1093, 32 Stat. 388 (1902), as amended and supplemented.

³ See, Ch. 418, 53 Stat. 1187 (1939), as amended and supplemented.

⁴ See, e.g., Ch. 832, 50 Stat. 844, 850 (1937), as amended and supplemented.

⁵ See, e.g., Ch. 832, 50 Stat. 844, 850 (1937), as amended and supplemented.

⁶ See, 43 U.S.C. 485h(c).

⁷ See, Act of December 22, 1944, Ch. 665, 58 Stat. 887, as amended and supplemented.

⁸ See, 42 U.S.C. 7152(a)(1)(E).

⁹ See, 44 U.S.C. 3501, et seq.

II. This Process Determines the Format of the APD and Is Not a Call for Applications

This public process and the associated Federal Register notice only determine the information that WAPA will collect from an entity desiring to apply for a Federal power allocation. This public process is a legal requirement that WAPA must comply with before WAPA can request information from potential preference customers. This public process is not the process whereby interested parties request an allocation of Federal power. The actual allocation of power is outside the scope of this proceeding. Please do not submit a request for Federal power in this process. Later, through a separate process, WAPA will issue a call for applications, as part of its project-specific marketing plans. When WAPA issues a call for applications, the information WAPA proposes to collect is voluntary. WAPA will use the information collected, in conjunction with its project-specific marketing plans, to determine an entity's eligibility and ultimately which entity will receive an allocation of Federal power.

III. Invitation for Comments

WAPA intends to extend and reuse the APD form under the OMB control number to September 30, 2020. Comments are invited on: (1) Whether the extended collection of information is necessary for the proper performance of the functions of the agency, including whether the information shall have practical utility; (2) the accuracy of the agency's estimate of the burden of the proposed collection of information, including the validity of the methodology and assumptions used; (3) ways to enhance the quality, utility, and clarity of the information to be collected; and (4) ways to minimize the burden of the collection of information on respondents, including the use of automated electronic, mechanical or other collection techniques or other forms of information technology.

Dated: April 21, 2017.
Mark A. Gabriel,
Administrator.

[FR Doc. 2017-10046 Filed 5-17-17; 8:45 am]

BILLING CODE 6450-01-P